NATIONAL AERONAUTICS AND SPACE ADMINISTRATION

[Notice 01-025]

NASA Advisory Council (NAC), Space Science Advisory Committee (SScAC), Solar System Exploration Subcommittee

AGENCY: National Aeronautics and Space Administration.

ACTION: Notice of meeting.

SUMMARY: In accordance with the Federal Advisory Committee Act, Pub. L. 92-463, as amended, the National Aeronautics and Space Administration announces a meeting of the NASA Advisory Council, Space Science Advisory Committee, Solar System Exploration Subcommittee.

DATES: Tuesday, February 27, 2001, 8:30 a.m. to 5 p.m.; Wednesday, February 28, 2001, 8:30 a.m. 5 p.m., and Thursday, March 1, 2001, 8:30 a.m. to 2:30 p.m.

ADDRESSES: National Aeronautics and Space Administration, Conference Room 5H 46, and Conference Room 7H 46, 300 E Street, SW, Washington, DC 20546.

FOR FURTHER INFORMATION CONTACT: Carl Pilcher, Code S, National Aeronautics and Space Administration, Washington, DC 20546, (202) 358-2150.

SUPPLEMENTARY INFORMATION: The meeting will be open to the public up to the capacity of the room. The agenda for the meeting is as follows:

• Associate Administrator's Program Status Report

• Introduction and Purpose of Meeting

• Solar System Program Update

• Outer Planets and Discussion

• Europa Update

• Discussion of Advanced Planning for Extended Missions

• Mars Program Update and Discussion

It is imperative that the meeting be held on these dates to accommodate the scheduling priorities of the key participants. Visitors will be requested to sign a visitor's register.

Dated: February 7, 2001.
Beth M. McCormick,
Advisory Committee Management Officer, National Aeronautics and Space Administration.

[FR Doc. 01-3481 Filed 2-9-01; 8:45 am]

BILLING CODE 7510-01-P